DEPARTMENT OF AGRICULTURE

Animal and Plant Health Inspection Service

7 CFR Part 354

9 CFR Parts 130 and 156

[Docket No. APHIS-2006-0028]

RIN 0579-AC44

User Fees; Updates and Clarifications

AGENCY: Animal and Plant Health Inspection Service, USDA.

ACTION: Proposed rule.

SUMMARY: We are proposing to amend our Agricultural Quarantine and Inspection Services user fee regulations to update an address that appears in several places. We are also proposing to make several nonsubstantive changes to the Veterinary Services user fees regulations to correct errors and to clarify the services covered by certain existing user fees. These proposed changes, which do not affect any existing fees, are necessary to ensure that the user fee regulations are up-to-date and ensure their clarity.

DATES: We will consider all comments that we receive on or before September 17, 2007.

ADDRESSES: You may submit comments by either of the following methods:

• Federal eRulemaking Portal: Go to http://www.regulations.gov, select “Animal and Plant Health Inspection Service” from the agency drop-down menu, then click “Submit.” In the Docket ID column, select APHIS-2006-0028 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to APHIS-2006-0028, Regulatory Analysis and Development, PPD, APHIS, Station 3A-03.8, 4700 River Road, Unit 118, Riverdale, MD 20737-1238. Please state that your comment refers to APHIS-2006-0028.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mrs. Kris Caraher, User Fees Section Head, Financial Services Branch, Financial Management Division, MRBPS, APHIS, 4700 River Road, Unit 54, Riverdale, MD 20737-1232; (301) 734-5901.

SUPPLEMENTARY INFORMATION:

Background

The regulations in 7 CFR, chapter III, and 9 CFR, chapter I, subchapter D, require inspection, laboratory testing, certification, or quarantine of certain plants, plant products, animals, animal products, or other commodities intended for importation into, or exportation from, the United States.

Section 2509(a) of the Food, Agriculture, Conservation, and Trade Act of 1990 (21 U.S.C. 136a), referred to below as the FACT Act, authorizes the Secretary of Agriculture to collect user fees for agricultural quarantine and inspection (AQI) services. The FACT Act was amended on April 4, 1996, and May 13, 2002.

The user fees to reimburse the Animal and Plant Health Inspection Service (APHIS) for the costs of providing inspections for AQI services are contained in 7 CFR part 354. In this document, we propose to amend the AQI international services user fee regulations by correcting and updating the remittance addresses in § 354.3 to reflect the proper addresses for mailings. All current customers have already received notices regarding these changes; however, we need to correct the information that appears in the regulations.

The FACT Act also authorizes the Secretary of Agriculture to, among other things, prescribe and collect fees to reimburse the Secretary for the cost of carrying out the provisions of the Federal animal quarantine laws that relate to the importation, entry, and exportation of animals, articles, or means of conveyance. The Secretary is also authorized to prescribe and collect fees to recover the costs of carrying out certain veterinary diagnostics services.

The user fee regulations in 9 CFR part 130 (referred to below as the regulations) prescribe user fees that APHIS collects for various services that we provide. The regulations currently include fees for: (1) Endorsing export certificates for animals; (2) providing quarantine services within the United States for imported animals; (3) providing certain inspection and supervision services within the United States for animals intended for export; (4) conducting certain veterinary inspections outside the United States; and (5) conducting certain veterinary diagnostics services.

We would make several nonsubstantive changes to the regulations. These proposed changes are explained below.

In § 130.4, User fees for processing import permit applications, we would add a sentence at the end of the introductory text of the section in order to clarify for our customers that user fees for processing applications for permits to import certain animals and animal products (using VS forms 16-3 and 17-129) are nonrefundable. While none of our user fees are refundable, the user fees in this case pertain to the processing of the import permit application, not to the permit itself. Because the user fees in this case apply whether or not import permits are issued to the applicants, some customers ask for clarification regarding the nonrefundability of the fees.

In § 130.7, User fees for import or entry services for live animals at land border ports along the United States-Canada border, we would clarify that if a service must be conducted on a Sunday or holiday or at any other time outside the normal tour of duty of the employee, then reimbursable overtime, as provided for in 9 CFR part 97, must be paid for each service in addition to the user fee listed in this section. Because we currently charge reimbursable overtime in the abovementioned circumstances, as provided for in § 97.1, we believe it would be helpful to include this reference in the user fee regulations.

In § 130.11, User fees for inspecting and approving import/export facilities and establishments, we would amend paragraph (a), which applies user fees for inspecting and approving import/export facilities and establishments, by clarifying that these user fees do not apply to inspection activities covered in § 130.30(a)(2), which pertains to inspections required either to obtain import permits for animal products, aquaculture products, or organisms or vectors, or to maintain compliance with import permits. We provide these facility inspection services frequently and customers regularly ask for clarification as to which user fee applies. Conversely, we would amend § 130.30(a)(2), which sets out the hourly rate for laboratory and facility inspections, by clarifying that the hourly rate in this paragraph also applies to inspections of biosecurity level two facilities, and that this hourly rate does not apply to inspection activities covered in § 130.11. We provide these services frequently and customers regularly ask for clarification as to which user fees apply. We currently charge the hourly rate for inspections of biosecurity level two facilities, so there will not be any change in fees.

In § 130.20, User fees for endorsing export certificates, paragraph (b)(1) pertains to user fees for the endorsement of export health certificates that require APHIS to verify tests or vaccinations. In the table in that paragraph, we would amend the entry for nonslaughter horses to Canada by replacing the word “animal” with “horse” for the sake of clarity. Additionally, because the applicable user fee increases with the number of tests and vaccinations that must be verified, we would add a footnote to the chart to clarify that rabies vaccinations are not counted in this number. Almost all domesticated animals and livestock in the United States are vaccinated for rabies, and we do not spend a significant amount of time looking at the rabies vaccination paperwork.

We would also amend § 130.30, paragraph (a)(4), which applies hourly rate fees to services provided for imported birds or ratites that are not subject to quarantine, by specifically mentioning that these hourly rate fees cover services such as monitoring birds, including but not limited to pet birds, between flights. We provide this service frequently and customers regularly need clarification as to which user fees apply. We currently charge the hourly rate to monitor birds between flights, so there will not be any change in fees.

We would also amend § 130.30, paragraph (a), by specifically identifying additional services for which APHIS charges an hourly rate. These services are currently covered under the general catch-all text of paragraph (a)(13)—i.e., under “other import-or export-related services for which there is no flat rate user fee specified elsewhere in this part”—but we provide these services frequently and customers regularly request clarification as to which user fees apply.

The specific services we would add are:

• Import or entry services for feeder animals including, but not limited to, feeder goats and feeder bison not covered by a flat rate user fee in § 130.7;

• Bird banding for identification;

• Inspection and approval of pet food facilities, including laboratories that perform pet food testing;

• Services provided at animal auctions, such as signing export health certificates; and

• Various facility inspections, including, but not limited to, fertilizer plants that utilize poultry waste, rendering plants, and potential embarkation facilities.

Finally, we would clarify that user fees for services under part 130 (specifically, user fees in §§ 130.2 through 130.8) apply whenever APHIS provides the services, be it through APHIS employees, contract veterinarians, or other personnel. We would do this by adding language to the regulations stating that user fees are payable for any service rendered by an APHIS representative, which is defined in § 130.1 as: “An individual, including but not limited to, an animal health technician or veterinarian, authorized by the Administrator to perform services for which the user fees in this part are charged.” This change is necessary to clarify for our customers that when APHIS provides services through an APHIS representative, such as contract veterinarians or other personnel, user fees still apply.

Changes in Part 156: Voluntary Inspection and Certification Service

The regulations in 9 CFR part 156 govern the inspection and certification of animal byproducts. Within these regulations, there are provisions regarding cooperative agreements between the Department and some other Federal or State agency, board of trade, chamber of commerce, or other agency, association, organization, person, or corporation as provided for in section 205 of the Agricultural Marketing Act of 1946 (7 U.S.C. 1624) to provide services under part 156.

In this document, we are proposing to remove those references to cooperative agreements because the export product endorsement and inspection services formerly covered by those agreements are now covered by user fees in 9 CFR part 130.

Executive Order 12866 and Regulatory Flexibility Act

This proposed rule has been reviewed under Executive Order 12866. The rule has been determined to be not significant for the purposes of Executive Order 12866 and, therefore, has not been reviewed by the Office of Management and Budget.

This proposed rule would amend our AQI user fee regulations by updating an address that appears in several places. We would also make several nonsubstantive changes to the Veterinary Services user fees regulations to correct errors and to clarify existing user fee services. The proposed changes to the regulations are administrative in nature and will not result in any new fees being charged or any additional entities becoming subject to user fees.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are in conflict with this rule will be preempted; (2) no retroactive effect will be given to this rule; and (3) administrative proceedings will not be required before parties may file suit in court challenging this rule.

Paperwork Reduction Act

This proposed rule contains no new information collection or recordkeeping requirements under the Paperwork Reduction Act of 1995 (44 U.S.C. 3501 et seq.).

List of Subjects

7 CFR Part 354

Animal diseases, Exports, Government employees, Imports, Plant diseases and pests, Quarantine, Reporting and recordkeeping requirements, Travel and transportation expenses.

9 CFR Part 130

Animals, Birds, Diagnostic reagents, Exports, Imports, Poultry and poultry products, Quarantine, Reporting and recordkeeping requirements, Tests.

9 CFR Part 156

Exports, Livestock, Poultry and poultry products, Reporting and recordkeeping requirements.

Accordingly, we propose to amend 7 CFR part 354 and 9 CFR parts 130 and 156 as follows:

TITLE 7—[AMENDED]

PART 354—OVERTIME SERVICES RELATING TO IMPORTS AND EXPORTS; AND USER FEES

1. The authority citation for part 354 continues to read as follows:

Authority: 7 U.S.C. 7701-7772, 7781-7786, and 8301-8317; 21 U.S.C. 136 and 136a; 49 U.S.C. 80503; 7 CFR 2.22, 2.80, and 371.3.

§ 354.3 [Amended]

2. In § 354.3, paragraphs (d)(4) introductory text, (d)(5), (d)(6), (e)(3)(i), (e)(3)(ii) introductory text, (e)(4), (f)(5)(i), (f)(5)(ii), (f)(5)(iii) introductory text, (f)(6), and (f)(7), remove the words “Box 952181, St. Louis, MO 63195-2181” and add the words “Box 979044, St. Louis, MO 63197-9000” in their place.

TITLE 9—[AMENDED]

PART 130—USER FEES

3. The authority citation for part 130 continues to read as follows:

Authority: 5 U.S.C. 5542; 7 U.S.C. 1622 and 8301-8317; 21 U.S.C. 136 and 136a; 31 U.S.C. 3701, 3716, 3717, 3719, and 3720A; 7 CFR 2.22, 2.80, and 371.4.

§ 130.2 [Amended]

4. In § 130.2, paragraph (a), the first sentence is amended by adding the words “for any service rendered by an APHIS representative” after the word “fees”.

§ 130.3 [Amended]

5. In § 130.3, paragraph (c)(3) is amended by removing the words “for those services” and adding the words “for any service rendered by an APHIS representative” in their place.

§ 130.4 [Amended]

6. In § 130.4, the first sentence of the section is amended by adding the words “for any service rendered by an APHIS representative” after the word “fees”, and the sentence “These fees are nonrefundable.” is added after the second sentence.

§ 130.5 [Amended]

7. In § 130.5, paragraph (a), the first sentence is amended by adding the words “for any service rendered by an APHIS representative” after the word “fees”.

§ 130.6 [Amended]

8. In § 130.6, paragraph (a), the first sentence is amended by adding the words “for any service rendered by an APHIS representative” after the word “fees”.

9. Section 130.7 is amended as follows:

a. In paragraph (a), first sentence, by adding the words “for any service rendered by an APHIS representative” after the word “fees”.

b. By adding paragraph (b) to read as set forth below.

§ 130.7 User fees for import or entry services for live animals at land border ports along the United States-Canada border.

* * * * *

(b) If a service must be conducted on a Sunday or holiday or at any other time outside the normal tour of duty of the employee, then reimbursable overtime, as provided for in part 97 of this chapter, must be paid for each service, in addition to the user fee listed in this section.

§ 130.8 [Amended]

10. In § 130.8, paragraph (a), the first sentence is amended by adding the words “for any service rendered by an APHIS representative” after the word “fees”.

§ 130.11 [Amended]

11. In § 130.11, paragraph (a) is amended by adding the sentence “These user fees do not apply to inspection activities covered in § 130.30(a)(2).” after the last sentence.

12. In § 130.20, paragraph (b)(1) is amended by adding footnote 1 in the table heading and by revising in the table the entry for “Nonslaughter horses to Canada” to read as follows:

§ 130.20 User fees for endorsing export certificates.

* * * * *

(b)(1) * * *

Number ¹ of tests or vaccinations and number of animals or birds on the certificate | User fee beginning Oct. 1, 2003
* * * * * * *
Nonslaughter horses to Canada:
First horse | $38.00
Each additional horse | 4.25
* * * * * * *
¹ Rabies vaccinations are not included in this number.

* * * * *

13. Section 130.30 is amended as follows:

a. In the introductory text of paragraph (a), by removing the words “through (a)(13)” and adding the words “through (a)(18)” in their place.

b. Paragraph (a)(2) is revised.

c. In paragraph (a)(4), by adding the words “, such as monitoring birds-including but not limited to pet birds-between flights” after the word “quarantine”.

d. Paragraph (a)(13) is redesignated as paragraph (a)(18), and new paragraphs (a)(13), (a)(14), (a)(15), (a)(16), and (a)(17) are added to read as set forth below.

§ 130.30 Hourly rate and minimum user fees.

(a) * * *

* * * * *

(2) Conducting inspections, including inspections of laboratories and facilities (such as biosecurity level two facilities), required either to obtain import permits for animal products, aquaculture products, or organisms or vectors, or to maintain compliance with import permits. This hourly rate does not apply to inspection activities covered in § 130.11.

* * * * *

(13) Import or entry services for feeder animals including, but not limited to, feeder goats and feeder bison not covered by a flat rate user fee in § 130.7.

(14) Export-related bird banding for identification.

(15) Export-related inspection and approval of pet food facilities, including laboratories that perform pet food testing.

(16) Export-related services provided at animal auctions.

(17) Various export-related facility inspections, including, but not limited to, fertilizer plants that utilize poultry waste, rendering plants, and potential embarkation facilities.

* * * * *

PART 156—VOLUNTARY INSPECTION AND CERTIFICATION SERVICE

14. The authority citation for part 156 continues to read as follows:

Authority: 7 U.S.C. 1622 and 1624; 21 U.S.C. 136a; 7 CFR 2.22, 2.80, and 371.4.

§ 156.2 [Amended]

15. Section 156.2 is amended as follows:

a. By removing the definition of cooperative agreement.

b. In the definition of inspector, by removing the words “under a cooperative agreement”.

§ 156.4 [Amended]

16. Section 156.4 is amended by removing the words “under a cooperative agreement”.

§ 156.5 [Amended]

17. Section 156.5 is amended by removing the words “service is to be furnished under a cooperative agreement;” and adding the words “the requirements of part 130 of this title are met;” in their place.

18. Section 156.7 is revised to read as follows:

§ 156.7 User fees under 9 CFR part 130.

User fees under part 130 of this chapter for service (including travel and other expenses incurred in connection with the furnishing of service) under this part shall be paid by the applicant. If required by the Administrator, the user fees under part 130 of this chapter shall be paid in advance. Since the user fees under part 130 of this chapter are for the purpose of reimbursing the Department for all costs incurred in connection with the furnishing of service under this part, the appropriate user fees under part 130 of this chapter to cover any such costs shall be paid even if service is withheld pursuant to § 156.8.

Done in Washington, DC, this 11th day of July 2007.
Kevin Shea,
Acting Administrator, Animal and Plant Health Inspection Service.

[FR Doc. E7-13775 Filed 7-16-07; 8:45 am]

BILLING CODE 3410-34-P